DEPARTMENT OF AGRICULTURE

Forest Service

Malheur National Forest, Blue Mountain and Prairie City Ranger Districts and Wallowa-Whitman National Forest, Whitman Ranger District, Oregon; Austin Project; Revision

AGENCY: Forest Service, Agriculture (USDA).

ACTION: Notice of intent to prepare an environmental impact statement; revision.

SUMMARY: The Forest Service is revising its notice of intent (NOI) to prepare an environmental impact statement (EIS) for the Austin Project to update the following information in the original NOI: project timeline, consideration of using an emergency authority, and identifying the substantive provisions for two additional potential forest plan amendments to the Malheur Forest Plan. This revised NOI re-opens the scoping process for an additional 30-day scoping period. The Planning Administrative Reviews and Litigation System identification number for the project is 53678.

DATES: Comments concerning the scope of the analysis must be received by June 16, 2025; the Forest Service is providing an additional scoping period for this project associated with this revised NOI. The draft EIS is expected in spring 2025 and the final EIS is expected in summer or fall 2025.

ADDRESSES: Send written comments to Zane Murray, Blue Mountain District Ranger, 431 Patterson Bridge Road or P.O. Box 909, John Day, OR 97845. Comments may also be sent electronically to comments-pacificnorthwest-malheur-bluemountain@usda.gov, or via facsimile to 541-575-3158.

FOR FURTHER INFORMATION CONTACT: Bethany Parker, at bethany.parker@usda.gov or (541) 575-3390. Individuals who use telecommunications devices for the hearing impaired may call 711 to reach the Telecommunications Relay Service, 24 hours a day, every day of the year, including holidays.

SUPPLEMENTARY INFORMATION:

Responsible Official

The Forest Supervisor of the Malheur National Forest is the Responsible Official.

Scoping Comments and the Objection Process

The Forest is considering use of the Secretary's Memorandum 1078-006 emergency situation determination (ESD) under section 40807 of the Infrastructure Investment and Jobs Act (IIJA) for the Austin Project, for applicable activities. Under this emergency authority, applicable activities under the Austin FEIS and ROD would not be subject to pre-decisional administrative review (Consolidated Appropriations Act of 2012 (Pub. L. 112-74) as implemented by Subparts A and B of 36 CFR part 218). Since Forest Service has its own program called ESD (36 CFR 218.21), to prevent confusion between the two, the Forest Service refers to any designation under IIJA section 40807 as an emergency action determination (EAD).

The original NOI was published on pages 32401-32403 of the Federal Register on July 8, 2019. This revised NOI re-opens the scoping process, which guides the development of the EIS. In this process, the Forest Service is requesting comments on potential alternatives and impacts, and identification of any relevant information, studies or analyses of any kind concerning impacts affecting the quality of the human environment. This will be the second scoping period for this project. Comments submitted in response to the original 2019 notice of intent do not need to be resubmitted; please focus comments on the additional information provided in this revised NOI. See the project's web page for additional information on the project: https://www.fs.usda.gov/project/malheur/?project=53678, including the 2019 Austin Project Scoping Package which includes a detailed description of the project's purpose and need and proposed action.

It is important that reviewers provide their comments at such times and in such a manner that they are useful to the agency's preparation of the EIS; therefore, comments should be provided prior to the close of the scoping period and should clearly articulate the reviewer's concerns and contentions. Commenting during scoping and any other designated opportunity to comment provided by the Responsible Official as prescribed by the applicable regulations will also govern eligibility to object once the final EIS and draft record of decision has been published. Comments received in response to this solicitation, including names and addresses of those who comment, will be part of the public record for this proposed action. Comments submitted anonymously will be accepted and considered; however, they will not be used to establish eligibility for the objection process.

Objections will be accepted only from those who have previously submitted specific written comments regarding the proposed project during scoping or other designated opportunity for public comment in accordance with regulations at 36 CFR 218.5(a). Issues raised in objections must be based on previously submitted timely, specific written comments regarding the proposed project unless based on new information arising after designated opportunities.

Substantive Provisions

When proposing a forest plan amendment, regulations at 36 CFR 219.13(b)(5) require the Responsible Official to identify in this notice which specific substantive requirements (36 CFR 219.8 through 219.11) are directly related to the plan direction being modified by the amendment based on the purpose of the amendment or the effects of the amendment (36 CFR 219.13(b)(5)).

In addition to the potential forest plan amendments identified in the 2019 NOI (84 Federal Register 32401-32403), the project may require two amendments to Malheur Forest Plan Management Area 14. The amendment to standard 2 would allow short-term deviations from retention and partial retention in visual corridors while the amendment to standard 19 would allow for seedtree harvest (regeneration harvesting) in the middleground of U.S. Highway 26 viewshed. The substantive requirements that are likely directly related to the purpose or effects of these potential forest plan amendments are 36 CFR 219.8(a)(1)(iv), 219.8(a)(1)(v), 219.9(a)(1), 219.9(a)(2), 219.9(a)(2)(i), 219.9(a)(2)(iii), 219.10(a)(1), 219.10(a)(3), and 219.10(a)(8).

Ellen Shultzabarger,
Associate Deputy Chief, National Forest System.

[FR Doc. 2025-08684 Filed 5-14-25; 8:45 am]

BILLING CODE 3411-15-P